INTERNATIONAL TRADE COMMISSION

[Investigation Nos. 701-TA-404-408 and 731-TA-898-908 (Review)]

Hot-Rolled Steel Products From Argentina, China, India, Indonesia, Kazakhstan, Netherlands, Romania, South Africa, Taiwan, Thailand, and Ukraine

AGENCY: United States International Trade Commission.

ACTION: Revised schedule for the subject full five-year reviews.

EFFECTIVE DATE: March 14, 2007.

FOR FURTHER INFORMATION CONTACT: Mary Messer (202-205-3193), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: Effective January 11, 2007, the Commission established a schedule for the conduct of the subject full five-year reviews (72 FR 2556, January 19, 2007), in which it determined to exercise its authority to extend the full review period by up to 90 days pursuant to 19 U.S.C. 1675(c)(5)(B) based on the Department of Commerce's scheduled final determination date of June 22, 2007, for the review concerning the antidumping duty order on hot-rolled steel from the Netherlands. However, on March 1, 2007, the Department of Commerce initiated proceedings to implement the World Trade Organization (“WTO”) panel's report consistent with section 129 of the URAA in the antidumping duty investigation concerning hot-rolled steel from the Netherlands (See Implementation of the Findings of the WTO Panel in U.S. Zeroing (EC): Notice of Initiation of Proceedings Under Section 129 of the URAA; Opportunity to Request Administrative Protective Orders; and Proposed Timetable and Procedures (72 F.R. 9306)). In its Preliminary Results for the Section 129 Determinations (http://ia.ita.doc.gov/download/zeroing/20070222-Zeroing-Prelim-Decision-Memo.pdf), the Department of Commerce preliminarily recalculated the weighted-average dumping margin concerning the antidumping duty order on hot-rolled steel from the Netherlands as follows: “The margin for Corus Staal BV, the sole respondent, decreases from 2.59 percent to zero. Since Corus Staal BV was the only respondent in the investigation, if this margin remains at zero or de minimis for the final recalculation, this order will be revoked.” The United States has indicated that it will implement the recommendations and rulings of the WTO Dispute Settlement Body (DSB) by April 9, 2007. In light of Commerce's preliminary determinations in the Section 129 proceedings concerning hot-rolled steel from the Netherlands and in order to ensure that it meets its statutory deadlines, the Commission therefore is revising its schedule for the subject full five-year reviews.

The Commission's new schedule for the full five-year reviews is as follows: the prehearing staff report will be placed in the nonpublic record on July 11, 2007; the deadline for filing prehearing briefs is July 20, 2007; requests to appear at the hearing should be filed in writing with the Secretary to the Commission on or before July 20, 2007; the prehearing conference will be held at the U.S. International Trade Commission Building at 9:30 a.m. on July 25, 2007; a two-day hearing will be held at the U.S. International Trade Commission Building at 9:30 a.m. on July 31 and August 1, 2007; the deadline for filing posthearing briefs is August 23, 2007; the final staff report will be placed in the nonpublic record on September 21, 2007; the Commission will make its final release of information on October 2, 2007; and final party comments are due on October 4, 2007.

For further information concerning these reviews see the Commission's notice cited above and the Commission's Rules of Practice and Procedure, part 201, subparts A through E (19 CFR part 201), and part 207, subparts A and C (19 CFR part 207).

Authority: These reviews are being conducted under authority of title VII of the Tariff Act of 1930; this notice is published pursuant to section 207.21 of the Commission's rules.

By order of the Commission.
Issued: March 15, 2007.
Marilyn R. Abbott,
Secretary to the Commission.

[FR Doc. E7-5043 Filed 3-19-07; 8:45 am]

BILLING CODE 7020-02-P